DEPARTMENT OF THE INTERIOR

National Park Service

[NPS-WASO-NAGPRA-NPS0038632; PPWOCRADN0-PCU00RP14.R50000]

Notice of Intended Repatriation: Denver Museum of Nature & Science, Denver, CO

AGENCY: National Park Service, Interior.

ACTION: Notice.

SUMMARY: In accordance with the Native American Graves Protection and Repatriation Act (NAGPRA), the Denver Museum of Nature & Science intends to repatriate certain cultural items that meet the definition of sacred objects and that have a cultural affiliation with the Indian Tribes or Native Hawaiian organizations in this notice.

DATES: Repatriation of the cultural items in this notice may occur on or after October 3, 2024.

ADDRESSES: Chris Patrello, Denver Museum of Nature & Science, 2001 Colorado Boulevard, Denver, CO 80205, telephone (303) 370-6378, email chris.patrello@dmns.org.

SUPPLEMENTARY INFORMATION: This notice is published as part of the National Park Service's administrative responsibilities under NAGPRA. The determinations in this notice are the sole responsibility of the Denver Museum of Nature & Science, and additional information on the determinations in this notice, including the results of consultation, can be found in the summary or related records. The National Park Service is not responsible for the determinations in this notice.

Abstract of Information Available

A total of 14 cultural items have been requested for repatriation. The 14 sacred objects are five baskets, five wooden plaques, one dance shield, one T-necklace, one beaded shawl, and one dance cane. 13 of the 14 sacred objects were purchased by Mary and Francis Crane, who donated their collection to the Denver Museum of Nature & Science between 1968 and 1983. In 1954, Mary and Francis Crane purchased two woven plates (AC.58 and AC.106), identified as White Mountain Apache, from Kohlberg's Antiques and Indian Arts in Denver, Colorado. In 1958, Mary and Francis Crane purchased two woven plates (AC.3047 and AC.3152) from Julian D. Pyatt of Trenton, Missouri. In 1959, Mary and Francis Crane purchased a White Mountain Apache beaded shawl (AC.4353) from National News and Gift Shop in Globe, Arizona. In 1964, Mary and Francis Crane purchased one dance shield (AC.7619), one T-necklace (AC.7621), one dance cane (AC.8088), and five wooden plaques (AC.8090A-E) from the Forestdale Trading post in Show Low, Arizona, all of which are identified as White Mountain Apache. In 2003, the estate of Donald Graham donated one White Mountain Apache basket (AN-2003-91.1) to the Denver Museum of Nature & Science.

Determinations

The Denver Museum of Nature & Science has determined that:

• The 14 sacred objects described in this notice are specific ceremonial objects needed by a traditional Native American religious leader for present-day adherents to practice traditional Native American religion, according to the Native American traditional knowledge of a lineal descendant, Indian Tribe, or Native Hawaiian organization.

• There is a reasonable connection between the cultural items described in this notice and the White Mountain Apache Tribe of the Fort Apache Reservation, Arizona.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 3, 2024. If competing requests for repatriation are received, the Denver Museum of Nature & Science must determine the most appropriate requestor prior to repatriation. Requests for joint repatriation of the cultural items are considered a single request and not competing requests. The Denver Museum of Nature & Science is responsible for sending a copy of this notice to the Indian Tribes and Native Hawaiian organizations identified in this notice and to any other consulting parties.Authority: Native American Graves Protection and Repatriation Act, 25 U.S.C. 3004 and the implementing regulations, 43 CFR 10.9.

Dated: August 26, 2024.
Melanie O'Brien,
Manager, National NAGPRA Program.

[FR Doc. 2024-19681 Filed 8-30-24; 8:45 am]

BILLING CODE 4312-52-P